OFFICE OF PERSONNEL MANAGEMENT

Laboratory Personnel Management Demonstration Project: Department of the Air Force

AGENCY: Office of Personnel Management.

ACTION: Notice of change in demonstration project procedures.

SUMMARY: Title VI of the Civil Service Reform Act, 5 U.S.C. 4703, authorizes the Office of Personnel Management (OPM) to conduct demonstration projects that experiment with new and different personnel management concepts to determine whether such changes in personnel policy or procedures would result in improved Federal personnel management.

Public Law 103-337, October 5, 1994, permits the Department of Defense (DoD), with the approval of OPM, to carry out personnel demonstration projects generally similar to the China Lake demonstration project at DoD Science and Technology (S&T) reinvention laboratories. The Air Force implemented its demonstration project on March 2, 1997, which covers its reinvention laboratory, the Air Force Research Laboratory (AFRL).

DATES: This amendment to the demonstration project may be implemented beginning on the date of approval of this notice.

FOR FURTHER INFORMATION CONTACT: AFRL Ms. Michelle Neuner, AFRL/HR, 1864 4th Street, Suite 1, Wright Patterson AFB, Ohio 45433-7131, 937-904-9600. OPM Mr. John Andre, U.S. Office of Personnel Management, 1900 E Street, NW, Room 7460, Washington DC 20415, 202-606-2820.

SUPPLEMENTARY INFORMATION:

1. Background

On November 27, 1996, OPM published in the Federal Register (61 FR 60400) the approval to conduct a demonstration project in the Department of the Air Force. The AFRL demonstration project involves simplified job classifications, two types of appointment authorities, an extended probationary period, pay banding, and a contribution-based compensation system (CCS).

2. Overview

The final plan outlined in the November 27, 1996 Federal Register stated that the extended probationary period would “apply to non-status hires” and went on to state that it would “apply to new hires or those who do not have reemployment or reinstatement rights.” These statements are somewhat contradictory in that a “new hire” could also include a “status hire” appointed from a register, which requires a probationary period. This notice clarifies probationary period requirements.

Experience through two cycles under the CCS has shown that changes are needed to provide the ability to assign an overall CCS score up to 5.25 and to pay a CCS bonus to level IV employees who are subject to the GS-15, step 10 pay cap. This notice changes the maximum assignable overall score and establishes eligibility for the CCS bonus.

In order to clarify the proper application of broadband level descriptor “Cooperation and Supervision” and CCS Factor 6 “Cooperation and Supervision,” the name is being changed to “Teamwork and Leadership.” This notice implements the name change.

Office of Personnel Management.
Janice R. Lachance,
Director.

I. Executive Summary

The Department of the Air Force established the Air Force Laboratory Personnel Management Demonstration Project to be generally similar to the system in use at the Navy Personnel Demonstration Project known as China Lake. The Air Force project was built upon the concept of a contribution-based compensation system, two appointing authorities, extended probationary period, simplified classification procedures delegated to the AFRL Commander, and pay banding.

II. Introduction

Purpose

The purpose of this notice is to clarify which employees are subject to the extended probationary period; provide the CCS bonus to eligible employees subject to the GS-15, step 10 pay cap; and change the name of broadband level descriptor “Cooperation and Supervision” and CCS Factor 6 “Cooperation and Supervision” to “Teamwork and Leadership.” No other changes are made to the sections referred to herein. Pursuant to 5 CFR 470.315, the changes are hereby made to the Federal Register, Part V, Laboratory Personnel Management Demonstration Project; Department of the Air Force; Notice, Volume 61, Number 230, pages 60400-60424 Wednesday, November 27, 1996; Section III.A.3, Section III.C.2, and Sections III.D.1, 3, and 5 as outlined in the following paragraphs.

III. Personnel System Changes

A. Hiring and Appointment Authorities

Change Section III.A.3, Extended Probationary Period, by replacing it in its entirety as follows:

A new employee needs to demonstrate adequate contribution during all cycles of a research effort for a laboratory manager to render a thorough evaluation. The current one year probationary period will be extended to three years for all newly hired regular career employees. The purpose of extending the probationary period is to allow supervisors an adequate period of time to fully evaluate an employee's contribution and conduct. The three-year probationary period will apply to individuals required to serve a probationary period as described in 5 CFR 315.801 with the exception that current Federal employees who enter the demonstration project while serving a probationary period are required only to complete one year of probation. Prior Federal civilian service counts toward completion of probation when the service meets the criteria specified in 5 CFR 315.802.

Aside from extending the time period, all other features of the current probationary period are retained including the potential to remove an employee without providing the full substantive and procedural rights afforded a non-probationary employee. Any employee appointed prior to the implementation date will not be affected. Participants in the Palace Knight and Senior Knight programs are not included in the demonstration project until they reassign from their Air Force Personnel Center (AFPC) authorization/position to an AFRL manpower authorization/position. Once placed on the demonstration project position, Palace Knights and Senior Knights who were appointed to AFPC rolls after the implementation of the Demonstration Project must complete three years of directly supervised employment in the laboratory to complete the probationary period. Those appointed to AFPC rolls prior to implementation are subject to the original probationary period, as defined under the terms of employment. Time spent at school does not count toward fulfilling the probationary requirement.

Probationary employees will be terminated when the employee fails to demonstrate proper conduct, technical competence, and/or adequate contribution for continued employment. In terminating probationary employees, AFRL will provide employees with written notification of the reasons for their separation and provide the effective date of the action.

B. Classification

Change Section III.C.2, Classification Standards, by replacing all references to “Cooperation and Supervision” with “Teamwork and Leadership.”

C. Contribution-Based Compensation System

1. Change Section III.D.1, Overview, by replacing all references to “Cooperation and Supervision” with “Teamwork and Leadership.”

2. Change Section III.D.3, The CCS Assessment Process, by replacing the third paragraph in its entirety as follows:

Factor scores are then averaged to give an overall CCS score. The broadband is well defined for overall CCS scores from 1.0 to 5.25. Differing degrees of “exceeded” or “failed” contributions, reflective of overall CCS scores outside this range, have no impact on CCS payouts. The maximum expected overall CCS score for the broadband level IV is set at 5.25 to be consistent with the maximum expected overall CCS scores for other broadband levels (4.25 for broadband level III, 3.25 for broadband level II, and 2.25 for broadband level I). Therefore, when the average of CCS factor scores exceeds 5.25, the overall CCS score will be set to 5.25 with the individual identified to upper management as having exceeded the maximum contribution defined by the broadband. Employees with an overall CCS score below 1.0 are automatically deemed to be above the upper rail for purposes of CCS assessment and associated salary adjustments.

3. Change Section III.D.5, Salary Adjustment Guidelines, by replacing the third paragraph in its entirety as follows:

Employees whose CCS score would result in awarding of “I” money such that the salary exceeds the maximum salary for broadband level II would be eligible for one of the following: movement into level III if a high grade allocation exists (section III D 6), or salary adjustment to the maximum salary in level II and a “bonus” payout of the additional “I” funds warranted by the assessment. Employees whose CCS score would result in awarding of “I” money such that the salary exceeds the maximum salary for broadband level IV will receive salary adjustment to the maximum salary in level IV and a “bonus” payout of the additional “I” funds warranted by the assessment. This bonus payment will not permanently increase base salary.

[FR Doc. 00-1342 Filed 1-20-00; 8:45 am]

BILLIING CODE 6325-01-U